DEPARTMENT OF COMMERCE

Census Bureau

National Advisory Committee

AGENCY: Census Bureau, Department of Commerce.

ACTION: Notice of public virtual meeting.

SUMMARY: The Census Bureau is giving notice of a virtual meeting of the National Advisory Committee on Racial, Ethnic and Other Populations (NAC). The Committee will address policy, research, and technical issues relating to a full range of Census Bureau programs and activities, including the decennial census, demographic and economic statistical programs, field operations, and information technology. Last minute changes to the schedule are possible, which could prevent giving advance public notice of schedule adjustments.

DATES: The virtual meeting will be held on:

• Thursday, May 2, 2024, from 10:30 a.m. to 5:30 p.m. ET.

ADDRESSES: Please visit the Census Advisory Committee website at https://www.census.gov/about/cac/nac/meetings/2024-05-meeting.html, for the NAC meeting information, including the agenda, and how to view the meeting.

FOR FURTHER INFORMATION CONTACT: Shana Banks, Advisory Committee Branch Chief, Office of Program, Performance and Stakeholder Integration (PPSI), shana.j.banks@census.gov, Department of Commerce, Census Bureau, telephone 301-763-3815. For TTY callers, please use the Federal Relay Service at 1-800-877-8339.

SUPPLEMENTARY INFORMATION: The NAC provides technical expertise to address Census Bureau program needs and objectives. The members of the NAC are appointed by the Director of the Census Bureau. The NAC has been established in accordance with the Federal Advisory Committee Act (5 U.S.C. 1001 et seq).

All meetings are open to the public. Public comments will be accepted in written form via email to shana.j.banks@census.gov, (subject line “2024 NAC Spring Virtual Meeting Public Comment”). A brief period will be set aside during the virtual meeting to read public comments received by noon ET, Wednesday, May 1, 2024. All public comments received will be posted to the website listed in the ADDRESSES section.

Robert L. Santos, Director, Census Bureau, approved the publication of this notice in the Federal Register.

Dated: April 8, 2024.
Shannon Wink,
Program Analyst, Policy Coordination Office, U.S. Census Bureau.

[FR Doc. 2024-07879 Filed 4-12-24; 8:45 am]

BILLING CODE 3510-07-P